DEPARTMENT OF HEALTH AND HUMAN SERVICES

Centers for Disease Control and Prevention

[Program Announcement 01084]

Improving Environmental Health Programs; Notice of Availability of Funds

A. Purpose

The Centers for Disease Control and Prevention (CDC) announces the availability of fiscal year (FY) 2001 funds for a cooperative agreement program for improving environmental health programs. This program addresses the “Healthy People 2010” focus areas of Environmental Health and Public Health Infrastructure. The purpose of the program is to identify methods that can be employed to strengthen collaborative linkages and better coordinate and integrate programs between environmental regulatory, environmental public health, and related environmental functions and programs in State, local, and Tribal governments as well as the private sector, academia, volunteer and advocacy groups, and others; to strengthen existing post-employment training and professional credentialing programs for the nation's environmental health workforce; and to develop a model plan for implementing these methods within the recipient's organization and that can be used as a model for similar organizations.

B. Eligible Applicants

Applications may be submitted by public and private nonprofit organizations and by governments and their agencies; that is, universities, colleges, research institutions, hospitals, other public and private nonprofit organizations, State and local governments or their bona fide agents, including the District of Columbia, the Commonwealth of Puerto Rico, the Virgin Islands, the Commonwealth of the Northern Mariana Islands, American Samoa, Guam, the Federated States of Micronesia, the Republic of the Marshall Islands, and the Republic of Palau, and federally recognized Indian tribal governments, Indian tribes, or Indian tribal organizations.

C. Availability of Funds

Approximately $125,000 is available in FY 2001 to fund one award. It is expected that the award will begin about September 1, 2001, and will be made for a 12-month budget period within a one year project period. Funding estimates may change.

D. Program Requirements

In conducting activities to achieve the purpose of this program, the recipient will be responsible for the activities under 1. (Recipient Activities), and CDC will be responsible for the activities listed under 2. (CDC Activities).

1. Recipient Activities

a. Identify a representative sample of a cross section of environmental health practitioners representing both regulatory and public health perspectives that are employed by the private sector; academia; State and local government; Indian Tribes or Nations; and professional, volunteer, and advocacy organizations.

b. Develop a series of focus group questions that can serve to elicit information about: strengthening linkages among environmental health, environmental regulatory, and private sector professionals; and strengthening post-employment training and professional credentialing programs for environmental professionals in these sectors.

c. Organize and conduct up to four focus group discussions made up of the environmental health professionals referenced in D.1.a. above in up to four geographically representative locations in the United States.

d. Disseminate focus group findings in a report that defines methods to be employed by the recipient organization to improve coordination among the multiple disciplines, missions, and regulatory and public health perspectives represented within the environmental health field and that can be employed to strengthen existing programs that train, credential, and enhance the professional status of the environmental health workforce.

e. Develop and implement a system to evaluate the effectiveness of this project.

2. CDC Activities

a. Provide technical assistance as needed regarding sampling and other methodologic issues associated with the conduct of this project.

b. Provide the recipient with source documents as needed to develop focus group questions.

c. Assist in developing and disseminating the report of focus group findings and related strategies and recommendations.

d. Assist in conducting the project evaluation.

E. Application Content

Use the information in the Program Requirements, Other Requirements, and Evaluation Criteria sections to develop the application content. Your application will be evaluated on the criteria listed, so it is important to follow them in laying out your program plan. The narrative should be no more than 15 double-spaced pages, printed on one side, with one inch margins, and unreduced font. The narrative should consist of, at a minimum, a Plan, Objectives, Methods, Evaluation, and Budget.

F. Submission and Deadline

Application

Submit the original and two copies of PHS 5161-1 (OMB Number 0937-0189). Forms are available at the following Internet address: www.cdc.gov/od/pgo/forminfo.htm, or in the application kit.

On or before July 27, 2001, submit the application to the Grants Management Specialist identified in the “Where to Obtain Additional Information” section of this announcement. Deadline: Applications shall be considered as meeting the deadline if they are either:

(1) Received on or before the deadline date; or

(2) Sent on or before the deadline date and received in time for submission to the independent review group. (Applicants must request a legibly dated U.S. Postal Service postmark or obtain a legibly dated receipt from a commercial carrier or U.S. Postal Service. Private metered postmarks shall not be acceptable as proof of timely mailing.)

Late Applications

Applications which do not meet the criteria in (1) or (2) above are considered late applications, will not be considered, and will be returned to the applicant.

G. Evaluation Criteria

Each application will be evaluated individually against the following criteria by an independent review group appointed by CDC.

1. Project Plan (30 points)

The extent to which the applicant demonstrates an understanding of the nature of the problem to be addressed. This specifically includes profile of the recipient's employees or members by professional discipline (e.g., sanitarian, environmental engineer) and employer category (e.g., State regulatory agency, local health department) from which focus group samples will be drawn; a description of the barriers that currently affect coordination and collaboration between environmental regulatory, environmental public health, and other related agencies and organizations; a description of the applicant's current credentialing and training programs for environmental health professionals and the need for such programs to be expanded and strengthened; and a plan for incorporating project findings into the recipient's current programmatic, credentialing, and training activities.

2. Project Objectives and Activities (30 points)

The specificity, measurability, and feasibility of objectives and proposed activities, including a schedule for implementing proposed activities, and a description of the responsibilities and time allocations of proposed staff in accomplishing those activities.

3. Organizational Qualifications and Experience (30 points)

Evidence of the applicant's ability to provide staff, space, equipment, and other resources required to accomplish the goals and objectives of the project, including descriptions of the names and qualifications of professional staff to be assigned to the project and the facilities, space, and equipment available for this project.

4. Evaluation (10 points)

Appropriateness of the methods to be used to monitor the implementation of proposed project activities.

5. Budget Justification (not scored)

Extent to which the budget is reasonable, clearly justified, and consistent with the intended use of cooperative agreement funds.

H. Other Requirements

Technical Reporting Requirements

Provide CDC with original plus two copies of:

1. Semi-annual progress reports, no more than 30 days after the end of the report period;

2. Final financial and performance reports, no more than 90 days after the end of the project period.

Send all reports to the Grants Management Specialist identified in the “Where to Obtain Additional Information” section of this announcement.

The following additional requirements are applicable to this program. For a complete description of each, see Attachment I in the application kit.

AR-9 Paperwork Reduction Act Requirements

AR-10 Smoke-Free Workplace Requirements

AR-11 Healthy People 2010

AR-12 Lobbying Restrictions

AR-14 Accounting System Requirements

AR-15 Proof of Non-Profit Status

I. Authority and Catalog of Federal Domestic Assistance Number

This program is authorized under section 317(k)(2) of the Public Health Service Act, [42 U.S.C. section 247b(k)(2)], as amended. The Catalog of Federal Domestic Assistance number is 93.283.

J. Where to Obtain Additional Information

This and other CDC announcements can be found on the CDC home page Internet address—http://www.cdc.gov Click on “Funding” then “Grants and Cooperative Agreements.”

To receive additional written information and to request an application kit, call 1-888-GRANTS4 (1-888 472-6874). You will be asked to leave your name and address and will be instructed to identify the Announcement number of interest.

If you have questions after reviewing the contents of all the documents, business management technical assistance may be obtained from: Nancy Pillar, Grants Management Specialist, Grants Management Branch, Procurement and Grants Office, Centers for Disease Control and Prevention, 2920 Brandywine Road, Room 3000, Atlanta, GA 30341-4146, Telephone number: (770) 488-2721, Email address: nfp6@cdc.gov.

For program technical assistance, contact: Mr. Kent Taylor, Office of Planning Evaluation, and Legislation, National Center for Environmental Health, Centers for Disease Control and Prevention, 4770 Buford Highway, NE, Atlanta, GA 30341-3717, Telephone: (770) 488-7250, Email address: kxt1@cdc.gov.

Dated: May 16, 2001.
Henry S. Cassell, III,
Acting Director, Procurement and Grants Office, Centers for Disease Control and Prevention (CDC).

[FR Doc. 01-12813 Filed 5-21-01; 8:45 am]

BILLING CODE 4163-18-P